DEPARTMENT OF ENERGY

Extension of Public Review and Comment Period for the Draft Programmatic Environmental Assessment for the Recycling of Scrap Metals Originating From Radiological Areas

AGENCY: Department of Energy.

ACTION: Extension of public review and comment period.

SUMMARY: On December 12, 2012, the U.S. Department of Energy (DOE) published in the Federal Register, a notice of availability for the Draft Programmatic Environmental Assessment (PEA) for the Recycling of Scrap Metals Originating from Radiological Areas (DOE/EA-1919) for public review and comment (77 FR 73996). In that notice, the email address for submitting comments on the Draft PEA contained an error. On December 20, 2012, DOE resolved this issue, and the email address listed in that notice is now working. In addition, on December 20, 2012, DOE received requests to extend the comment period due to the several holidays falling during the original 30-day comment period. Because the email address for submitting electronic comments was not working from December 12 through December 20, 2012, and in response to the requests for additional time, DOE has decided to extend the public comment period by 30 days. The email address printed in the Draft PEA was correct and now both that email address (Scrap_PEA_Comments@hq.doe.gov) and the one in the notice of availability (Scrap_PEAcomments@hq.doe.gov) may be used to submit comments.

DATES: The public comment period is extended by 30 days from January 11, 2013 through February 11, 2013.

ADDRESSES: The Draft PEA for the Recycle of Scrap Metals Originating from Radiological Areas is available for review on the DOE NEPA Web site at http://www.energy.gov/nepa and on the National Nuclear Security Administration (NNSA) Web site at: http://www.nnsa.energy.gov/nepa. Comments on the Draft PEA may be submitted electronically via email to Scrap_PEA_Comments@hq.doe.gov or Scrap_PEAcomments@hq.doe.gov. Alternatively, written comments may be sent by postal mail to: Dr. Jane Summerson, DOE NNSA, P.O. Box 5400, Bldg 401, K.AFB East, Albuquerque, NM 87185.

For general information about the DOE NEPA process, please contact: Ms. Carol Borgstrom, Director, Office of NEPA Policy and Compliance (GC-54), U.S. Department of Energy, 1000 Independence Ave. SW., Washington, DC 20585, telephone 202-586-4600, or leave a message at 1-800-472-2756. Additional information regarding DOE NEPA activities and access to many of DOE's NEPA documents are available through the DOE NEPA Web site at http://www.energy.gov/nepa.

Issued in Washington, DC, on December 20, 2012.
Bruce Diamond,
General Counsel for the National Nuclear Security Administration.

[FR Doc. 2012-31169 Filed 12-27-12; 8:45 am]

BILLING CODE 6450-01-P